DEPARTMENT OF VETERANS AFFAIRS

Genomic Medicine Program Advisory Committee

Notice of Meeting

The Department of Veterans Affairs (VA) gives notice under Public Law 92-463 (Federal Advisory Committee Act) that the Genomic Medicine Program Advisory Committee will meet on July 18, 2008 at the Hamilton Crown Plaza, 1001 14th Street, NW., Washington, DC. The meeting will convene at 8 a.m. and adjourn at 5 p.m. The meeting is open to the public.

The purpose of the Committee is to provide advice and make recommendations to the Secretary of Veterans Affairs on using genetic information to optimize medical care of veterans and to enhance development of tests and treatments for diseases particularly relevant to veterans.

At the July 18 meeting, the Committee will receive program updates including planned responses to recommendations, and will continue to examine potential options for VA to incorporate genomic information into its health care program while applying appropriate ethical oversight and protecting the privacy of veterans. The meeting will also include discussions on the oversight of genetic testing and workforce development to accommodate the genomic medicine program.

The meeting will include time reserved for public comments. Members of the public may provide up to 5 minute statements during the period reserved for public comments. They may also submit, at the time of the meeting, a 1-2 page summary of their comments for inclusion in the official meeting record. Any member of the public seeking additional information should contact Dr. Sumitra Muralidhar at sumitra.muralidhar@va.gov.

Dated: June 12, 2008.
By Direction of the Secretary.
E. Philip Riggin,
Committee Management Officer.

[FR Doc. E8-13805 Filed 6-18-08; 8:45 am]

BILLING CODE 8320-01-M